DEPARTMENT OF HEALTH AND HUMAN SERVICES

Administration for Children and Families

Submission for OMB Review; OCSE Stafford Act Flexibilities Request Form (New Collection)

AGENCY: Office of Child Support Enforcement, Administration for Children and Families, HHS.

ACTION: Request for public comment.

SUMMARY: The Office of Child Support Enforcement (OCSE), Administration for Children and Families (ACF), U.S. Department of Health and Human Services (HHS), seeks approval of a standardized request form to collect information from state and tribal title IV-D child support agencies requesting administrative flexibilities under the Robert T. Stafford Disaster Relief and Emergency Assistance Act, (the “Stafford Act”), due to the COVID-19 pandemic.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: Due to the exceptional impact of the COVID-19 pandemic, state and tribal agencies operating child support programs under title IV-D of the Social Security Act have faced significant operational and other challenges in providing critical child support services to families. Section 301 of the Stafford Act, 42 U.S.C. 5141, provides that “Any Federal agency charged with the administration of a Federal assistance program may, if so requested by the applicant State [or Indian tribal government] or local authorities, modify or waive, for a major disaster, such administrative conditions for assistance as would otherwise prevent the giving of assistance under such programs if the inability to meet such conditions is a result of the major disaster.” To communicate that child support agencies may request relief under the Stafford Act, on May 28, 2020, OCSE published Dear Colleague Letter 20-04: Flexibilities for State and Tribal Child Support Agencies during COVID-19 Pandemic. OCSE seeks approval of a standardized request form to collect information from state and tribal IV-D agencies requesting Stafford Act administrative flexibilities, due to the COVID-19 pandemic and according to OCSE Dear Colleague Letter 20-04.

Respondents: State and tribal agencies administering a child support program under title IV-D of the Social Security Act.

Annual Burden Estimates
Instrument | Total number of respondents | Total number of responses per respondent | Average burden hours per response | Total burden hours | Annual burden hours
OCSE Stafford Act Flexibilities Request Form | 114 | 3 | 1 | 342 | 114

Estimated Total Annual Burden Hours: 114.

Authority: 42 U.S.C. 5141.

Mary B. Jones,
ACF/OPRE Certifying Officer.

[FR Doc. 2021-05780 Filed 3-18-21; 8:45 am]

BILLING CODE 4184-41-P